DEPARTMENT OF THE TREASURY

Office of Foreign Assets Control

Notice of OFAC Sanctions Actions

AGENCY: Office of Foreign Assets Control, Treasury.

ACTION: Notice

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The SDN List and additional information concerning OFAC sanctions programs are available on OFAC's website (https://www.treasury.gov/ofac).

Notice of OFAC Action(s)

On February 2, 2024, OFAC determined that the property and interests in property subject to U.S. jurisdiction of the following persons are blocked under the relevant sanctions authority listed below.

Entity

Additionally, on February 2, 2024, OFAC updated the entry on the SDN List for the following entity whose property and interests in property subject to U.S. jurisdiction continue to be blocked under the relevant sanctions authorities listed below.

Entity

1. ISLAMIC REVOLUTIONARY GUARD CORPS ELECTRONIC WARFARE AND CYBER DEFENSE ORGANIZATION (a.k.a. IRGC JANGAL ORGANIZATION), Iran;Additional Sanctions Information—Subject to Secondary Sanctions [SDGT] [JRGC] [IFSR] [HRIT-IR].

-to-

IRANIAN ISLAMIC REVOLUTIONARY GUARD CORPS CYBER-ELECTRONIC COMMAND (a.k.a. IRGC JANGAL ORGANIZATION; a.k.a. IRGC-CEC; f.k.a. ISLAMIC REVOLUATIONARY GUARD CORPS ELECTRONIC WARFARE AND CYBER DEFENSE ORGANIZATION), Iran; Additional Sanctions Information-Subject to Secondary [SDGT] [IRGC] [IFSR] [HRIT-IR].

Designated pursuant to section 1(a)(ii)(D) of Executive Order 13606 of April 22, 2012, “Blocking the Property and Suspending the Entry Into the United States of Certain Persons With Respect to Grave Human Rights Abuses by the Governments of Iran and Syria via Information Technology” (“E.O. 13606”—. for being owned or controlled by, or having acted or purported to act for or on behalf of, directly or indirectly, Iran's ISLAMIC REVOLUTIONARY GUARD CORPS, a person whose property and interests in property are blocked pursuant to E.O. 13606

Dated: February 2, 2024.
Bradley T. Smith,
Director,Office of Foreign Assets Control, U.S. Department of the Treasury.

[FR Doc. 2024-02498 Filed 2-6-24; 8:45 am]

BILLING CODE 4810-AL-P